DEPARTMENT OF ENERGY

Federal Energy Regulatory Commission

[Docket No. EL02-115-000]

Avista Corporation, Avista Energy, Inc., Enron Power Marketing, Inc., Portland General Electric Corporation; Notice of Initiation of Proceeding and Refund Effective Date

August 13, 2002.

Take notice that on August 13, 2002, the Commission issued an order in the above-indicated docket initiating a proceeding in Docket No. EL02-115-000 under section 206 of the Federal Power Act.

The refund effective date in Docket No. EL02-115-000 will be 60 days after publication of this notice in the Federal Register.

Linwood A. Watson, Jr.,
Deputy Secretary.

[FR Doc. 02-20985 Filed 8-15-02; 8:45 am]

BILLING CODE 6717-01-P